DEPARTMENT OF TRANSPORTATION

Pipeline and Hazardous Materials Safety Administration

49 CFR Parts 190, 191, 192, 193, 194, 195, 196, 197, 198, and 199

[Docket No. PHMSA-2025-0050]

RIN 2137-AF73

Pipeline Safety: Mandatory Regulatory Reviews To Unleash American Energy and Improve Government Efficiency

AGENCY: Pipeline and Hazardous Materials Safety Administration (PHMSA), Department of Transportation (DOT).

ACTION: Advance notice of proposed rulemaking (ANPRM).

SUMMARY: PHMSA is publishing this advance notice of proposed rulemaking (ANPRM) to solicit stakeholder feedback on whether to repeal or amend any requirements in the Pipeline Safety Regulations to eliminate undue burdens on the identification, development, and use of domestic energy resources and to improve government efficiency.

DATES: Comments on this ANPRM must be submitted by August 4, 2025. PHMSA will consider late-filed comments to the extent practicable.

ADDRESSES: You may submit comments identified by the Docket Number using any of the following ways:

• E-Gov Web: https://www.regulations.gov. This site allows the public to enter comments on any Federal Register notice issued by any agency. Follow the online instructions for submitting comments.

• Mail: Docket Management System: U.S. Department of Transportation, 1200 New Jersey Avenue SE, West Building Ground Floor, Room W12-140, Washington, DC 20590-0001.

• Hand Delivery: DOT Docket Management System: West Building Ground Floor, Room W12-140, 1200 New Jersey Avenue SE, Washington, DC 20590-0001 between 9:00 a.m. and 5:00 p.m. EST, Monday through Friday, except Federal holidays.

• Fax: 202-493-2251.

Instructions: Please include the docket number PHMSA-2025-0050 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act Statement: In accordance with 5 U.S.C. 553(c), DOT solicits comments from the public to inform its rulemaking process. DOT posts these comments, without edit, including any personal information the commenter provides, to https://www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to the information you give to the agency by taking the following steps: (1) mark each page of the original document submission containing CBI as “Confidential”; (2) send PHMSA, along with the original document, a second copy of the original document with the CBI deleted; and (3) explain why the information that you are submitting is CBI. Submissions containing CBI should be sent to the following: Alyssa Imam, Transportation Specialist by telephone at 202-738-3850, or by email at alyssa.imam@dot.gov. Hard copies may be sent to 2nd Floor, 1200 New Jersey Avenue SE, Washington, DC 20590-0001. Any materials PHMSA receives that is not specifically designated as CBI will be placed in the public docket.

Docket: For access to the docket to read background documents or comments received, go to https://www.regulations.gov. Follow the online instructions for accessing the docket. Alternatively, you may review the documents in person at the street address listed above.

FOR FURTHER INFORMATION CONTACT: Alyssa Imam, Transportation Specialist, by telephone at 202-738-3850 or by email at alyssa.imam@dot.gov.

SUPPLEMENTARY INFORMATION:

Executive Summary

PHMSA is publishing this advance notice of proposed rulemaking (ANPRM) to solicit stakeholder feedback on whether to repeal or amend any requirements in the Pipeline Safety Regulations (PSR; 49 CFR parts 190 through 199)—as well as any letters of interpretation, guidance documents, or other materials implementing those regulations—to eliminate undue burdens on the identification, development, and use of domestic energy resources and to improve government efficiency.¹ PHMSA also solicits stakeholder feedback on whether to amend the PSR to require PHMSA conduct periodic, mandatory regulatory reviews.

¹ PHMSA has recently solicited stakeholder feedback on potential improvements and updates of certain PSR, as well as estimating the costs and benefits of any potential changes. See PHMSA, “Pipeline Safety: Amendments to Liquefied Natural Gas Facilities,” 90 FR 18949 (May 5, 2025); and PHMSA, “Pipeline Safety: Repair Criteria for Hazardous Liquid and Gas Transmission Pipelines,” 90 FR 21715 (May 21, 2025). PHMSA encourages stakeholders to submit comments to both the docket for this ANPRM as well as the dockets for those ANPRMs as pertinent.

Background

PHMSA's pipeline safety program plays an essential role in the energy supply chain, ensuring the safe, reliable, and affordable transportation of energy products to millions of ordinary Americans. The PSR apply to more than 3.3 million miles of pipelines that are used to transport natural gas, crude oil, refined petroleum products, carbon dioxide, and other gases and hazardous liquids to end users. The PSR also ensure the safety of nearly 400 underground natural gas storage (UNGS) facilities and 177 liquefied natural gas (LNG) facilities—from peak shaving facilities operated by local distribution companies to large-scale export terminals supplying natural gas to U.S. allies and trading partners around the world.²

² See generally PHMSA, “Pipeline Miles and Facilities 2010+,” https://portal.phmsa.dot.gov/analytics/saw.dll?Portalpages&PortalPath=%2Fshared%2FPDM%20Public%20website%2F_portal%2FPublic%20Reports&Page=Infrastructure (last accessed Apr. 29, 2025) (compiling data from annual reports submitted to PHMSA).

More than 3,000 operators of transportation-related pipelines, UNGS facilities, and LNG facilities are responsible for complying with the PSR, each of whom must invest scarce resources to satisfy PHMSA's design, construction, testing, operation, maintenance, and reporting requirements. The costs of these investments are passed along to other entities in the energy supply chain (including downstream shippers and pipeline systems, oil and gas companies, and electric and gas utilities), to the industrial manufacturing and commercial goods sectors, and, ultimately, to the American consumer. PHMSA has an obligation to ensure that the burdens imposed by its regulations on all potential stakeholders are necessary for the PSR to serve the public interest.

Conducting periodic, retrospective reviews of the PSR is one way to achieve that objective. Presidents of both political parties dating to the 1970s have called on Federal agencies to conduct broad reviews of existing regulations by Executive order (E.O.),³ and scholars and other experts in administrative law have long touted the benefits of conducting retrospective regulatory reviews.⁴ The Department of Transportation (DOT) requires review of regulations on a 10-year review cycle, as specified by 11(d) of DOT Order 2011.6B, “Policies and Procedures for Rulemakings.” ⁵ DOT previously issued plans and regulations requiring retrospective review ⁶ and solicited stakeholder input to inform those reviews on multiple occasions—and is currently taking recommendations on the DOT-wide opportunities for modification or repeal of regulations to reduce compliance burdens.⁷ Congress requires periodic regulatory reviews on a limited scale; section 610 of the Regulatory Flexibility Act (5 U.S.C. 601 et seq.) requires PHMSA and other agencies to conduct post-issuance review of agency rules that impose a “significant impact on a substantial number of small entities” such as small business and local governments.

³ See E.O. 12044, “Improving Government Regulation,” 43 FR 12661 (Mar. 24, 1978); E.O. 12291, “Federal Regulation,” 46 FR 13193 (Feb. 19, 1981); E.O. 12866, “Regulatory Planning and Review,” 58 FR 51735 (Oct. 4, 1993); E.O. 13563 “Improving Regulation and Regulatory Review,” 76 FR 3821 (Jan. 21, 2011).

⁴ See, e.g., Lori S. Bennear and Jonathan B. Wiener, “Periodic Review of Agency Regulation” (June 7, 2021) (report to the Admin. Conf. of the United States).

⁵ DOT Order 2100.6B, “Policies and Procedures for Rulemakings” (Mar. 10, 2025), available at https://www.transportation.gov/sites/dot.gov/files/2025-03/Rulemaking%20Order%202100.6B%20Signed%203.10.2025.pdf.

⁶ DOT-Office of the Secretary, “Plan for Implementation of Executive Order 13563” (Aug. 2, 2011); DOT-Office of the Secretary, “Administrative Rulemaking, Guidance, and Enforcement Procedures,” 84 FR 71714 (Dec. 27, 2019), previously codified in 49 CFR part 5, repealed by DOT-Office of the Secretary, “Administrative Rulemaking, Guidance and Enforcement Procedures,” 86 FR 17292 (April 2, 2021).

⁷ DOT—Office of the Secretary, “Notification of Regulatory Review,” 82 FR 45750 (Oct. 2, 2017); DOT-Office of the Secretary, “Ensuring Lawful Regulation: Reducing Regulation and Controlling Regulatory Costs,” 90 FR 14593 (Apr. 3, 2025). Congress has also passed legislation providing for periodic regulatory reviews on a limited scale; for example, section 610 of the Regulatory Flexibility Act (5 U.S.C. 601 et seq.) requires post-issuance review of agency rules imposing a significant impact on a “substantial number of small entities” such as small business and local governments.

This is not a new focus for PHMSA, which has conducted broad retrospective regulatory reviews in the past.⁸ However, PHMSA expects that further improvements to its regulations can be made to reduce burdens. The PSR contain requirements that have been in effect for decades without undergoing a comprehensive cost-benefit review.⁹ Indeed, Congress did not even require DOT to perform a cost-benefit analysis to support the addition of new safety standards to the PSR until enactment of the Accountable Pipeline Safety and Partnership Act of 1996, Public Law 104-304, codified at 49 U.S.C. 60102(b)(5). The Federal courts have also raised serious questions about the rigor of cost-benefit analyses used to support some provisions in recent rulemakings addressing pipeline safety; ¹⁰ commenters have echoed those concerns in subsequent rulemaking proceedings.¹¹ Though the costs of many—and perhaps most—of the provisions in the PSR are justified by their benefits, conducting periodic, and comprehensive, regulatory reviews ensures that any compliance burdens remain justified in light of the evolution of technology, operator practices, and PHMSA's regulatory requirements.

⁸ See, e.g., DOT, “Plan for Implementation of E.O. 13564: Retrospective Review and Analysis of Existing Rules” (Aug. 2011); PHMSA, “Pipeline Safety: Gas Pipeline Regulatory Reform,” 86 FR 2210 (Jan. 11, 2021).

⁹ Hazardous Materials Regulations Board, “Transportation of Natural and Other Gas by Pipeline; Minimum Safety Standards,” 35 FR 13248 (Aug. 19, 1970) (establishing parts 190 and 192 regulations); Hazardous Materials Regulations Board, “Requirements for Design, Construction, Operation, and Maintenance,” 34 FR 15473 (Oct. 4, 1969) (establishing part 195 regulations); Research and Special Projects Administration, “Liquefied Natural Gas facilities; New Federal Standards,” 45 FR 9184 (Feb. 11, 1980).

¹⁰ See GPA Midstream Ass'n v. U.S. Dep't of Transp., 67 F.4th 1188 (D.C. Cir. 2023); INGAA v. PHMSA, 114 F.4th 744, 756 (D.C. Cir. 2024).

¹¹ See INGAA, Initial Comments on Gas Pipeline Leak Detection and Repair NPRM” at 2 (Aug. 16, 2023) (referencing PHMSA, “Final Rule—Pipeline Safety: Safety of Gas Transmission Pipelines: Repair Criteria, Integrity Management Improvements, Cathodic Protection, Management of Change, and Other Related Amendments,” 87 FR 52224 (Aug. 24, 2022) (2137-AF39)).

Like his predecessors, President Trump has issued a series of E.O.s directing PHMSA and other Federal agencies to take a hard look at their existing regulations, particularly with respect to those that impose burdens on the energy sector.¹² E.O. 14154, “Unleashing American Energy,” mandates at section 3 that “the heads of all agencies shall review all existing regulations . . . to identify those agency actions that impose an undue burden on the identification, development, or use of domestic energy resources . . . .” Similarly, section 1 of E.O. 14156, “Declaring a National Energy Emergency,” promotes the integrity and expansion of U.S. energy infrastructure to ensure a “reliable, diversified, and affordable supply of energy to drive our Nation's manufacturing, transportation, agriculture, and defense industries and to sustain the basics of modern life and military preparedness.” Lastly, E.O. 14192, “Unleashing Prosperity Through Deregulation,” acknowledges at section 1 that the cumulative burden placed on “[U.S.] economic growth and ability to build and innovate, and hampers [U.S.] global competitiveness” and therefore calls on agencies to identify opportunities to alleviate unnecessary regulatory compliance burdens imposed on industry and the general public.

¹² E.O. 14192, “Unleashing Prosperity Through Deregulation,” 90 FR 9065 (Feb. 6, 2025); E.O. 14152, “Unleashing American Energy,” 90 FR 8353 (Jan. 29, 2025); E.O. 14156, “Declaring a National Energy Emergency,” 90 FR 8433 (Jan. 29, 2025).

To serve the public interest and satisfy the requirements in President Trump's recent directives, PHMSA is soliciting stakeholder feedback on, among other things: (1) identification of regulatory provisions within those parts of the PSR listed in section III below—including any implementing guidance including interpretations of those regulations—that could impose an undue burden on identification, development, and use of domestic energy resources, or that are examples of government inefficiency insofar as they impose outsized compliance burdens for comparatively small safety benefits or limit technological innovation; (2) the nature and magnitude of those burdens, including identification of the regulated entities—i.e., the specific categories of gas and hazardous liquid pipeline facilities—burdened, as well as the compliance costs and implementation challenges experienced by those entities; (3) potential amendments including rescission to those regulatory provisions; (4) the incremental compliance costs and benefits (including benefits pertaining to avoided compliance costs, safety harms, and environmental harms) anticipated from those amendments; and (5) the technical feasibility, reasonableness, cost-effectiveness, and practicability of those potential amendments. PHMSA may also consider adopting a procedural requirement mandating periodic regulatory reviews (e.g., on a 5- or 3-year cycle) of the provisions in the PSR. PHMSA may hold a public meeting soon to supplement or to clarify the materials received in response to this ANPRM.

With respect to incremental cost and benefit information, PHMSA is seeking per-unit, aggregate, and programmatic (both one-time implementing and recurring) data. Explanation of the bases or methodologies employed in generating cost and benefit data, including data sources and calculations, is valuable so that PHMSA can explain the support for any estimates it is able to provide that accompany a proposed rule, and other commenters may weigh in on the validity and accuracy of the data. Please also identify the baseline (e.g., a particular edition of a consensus industry standard; widespread voluntary operator practice; or documentation of sample surveys and other operator level data or information) from which those incremental costs and benefits arise. When estimates are approximate or uncertain, consider using a range or specifying the distribution in other ways.

When responding to a specific question below please note the topic letter and question number in your comment. PHMSA will review and evaluate all comments received, as well as late-filed comments to the extent practicable.

Topics Under Consideration

Procedural Regulations and Actions

1. Should PHMSA consider incorporating within its PSR an explicit requirement to conduct retrospective regulatory reviews at specified intervals to eliminate undue burdens and improve government efficiency? Please identify any specific regulatory language would be appropriate for that purpose. What interval would be appropriate? How should PHMSA provide opportunities for stakeholder engagement in those reviews?

2. Can PHMSA eliminate undue burdens or improve government efficiency by taking any actions with respect to its oversight of State authorities or involvement with other Federal agencies? Please identify specific actions that PHMSA should consider for this purpose.

3. What number of small businesses, small organizations, or small government jurisdictions, as defined in the Regulatory Flexibility Act (5 U.S.C. 6010 et seq.) and its implementing regulations, operate different categories of PHMSA-jurisdictional gas, hazardous liquid, and carbon dioxide pipeline facilities? Please provide information about the nature and types of activities of small businesses and other small entities operating in midstream gas, hazardous liquid, and carbon dioxide pipeline sectors. Are there any existing PSR requirements that disproportionately impact small businesses or other small entities in the sector? Are there alternative regulatory approaches the agency should consider that would achieve its regulatory objectives while minimizing any significant economic impact on small businesses or other small entities?

4. Do PHMSA's regulations, implementing guidance, or practices governing special permits (49 CFR 190.341) impose an undue burden on affected stakeholders? Please identify any specific amendments to regulations, guidance, or protocols meriting consideration, as well as the technical, safety, and economic reasons supporting those actions.

5. Do PHMSA's compliance practices with respect to the National Environmental Policy Act place an undue burden on affected stakeholders? Are there any categorical exclusions that PHMSA should adopt? If so, please identify the activities that should be considered for a categorical exclusion, as well as the technical, safety, and environmental bases for adding those categorical exclusions. Are there any categorical exclusions employed by other Federal agencies that PHMSA should adopt pursuant to 42 U.S.C. 4336c?

6. Do annual user fees (49 U.S.C. 60301 et seq.) and charges (e.g., cost recovery pipeline facility design and construction reviews pursuant to 49 CFR part 190, subpart E) imposed by PHMSA place an undue burden on affected stakeholders? If so, please identify specific fees, the regulated entities adversely affected by those fees, and any alternative fee structures meriting consideration.

7. Are there any interpretations (§ 190.11), approvals (§ 190.9), or special permits (§ 190.341) that should be incorporated into the PSR to eliminate undue burdens or improve government efficiency? Should PHMSA adopt a procedure in the PSR to facilitate the incorporation of similar actions in the future?

Pipeline Safety Regulations (49 CFR Parts 190 and 191 Through 199)

1. What provisions of the PSR either impose an undue burden on identification, development, and use of domestic energy resources, or are examples of government inefficiency, insofar as they impose outsized compliance burdens for comparatively small safety benefits or limit technological innovation? Are there any PSR provisions that are unnecessary because their safety benefits that are adequately addressed by other PSR requirements?

2. Do any of the terms defined in the PSR impose an undue burden on affected stakeholders? Please identify any specific regulatory amendments that PHMSA should consider, as well as the technical, safety, and economic reasons supporting those recommended amendments.

3. Are there any requirements in the PSR that impose undue burdens on owners and operators of gathering lines? Please identify any specific regulatory amendments that PHMSA should consider, as well as the technical, safety, and economic reasons supporting those recommended amendments.

4. Do the reporting and notification requirements (e.g., part 191, § 193.2011, and part 195, subpart B) in the PSR impose an undue burden on affected stakeholders? Are any of those reporting requirements inefficient because of their limited safety value compared to their associated costs? Please identify any specific regulatory amendments that PHMSA should consider, as well as the technical, safety, and economic reasons supporting those recommended amendments.

5. Are there any consensus industry standards or recommended practices (or updated editions thereof) that should be incorporated by reference into the PSR to eliminate undue burdens or improve government efficiency? Please identify the pertinent standards and recommended practices that PHMSA should consider incorporating by reference, the specific provisions of the PSR that should be used for that purpose, and the technical, safety, and economic reasons supporting those recommended amendments.

6. Are there any material, design, testing, construction, or corrosion control requirements in parts 192 (subparts B through I), 193 (subparts C through E), and 195 (subparts C through E and H) of the Pipeline Safety Regulation that impose an undue burden on affected stakeholders? Please identify any specific regulatory amendments that PHMSA should consider, as well as the technical, safety, and economic reasons (include a description and number of the affected pipeline facilities) supporting those recommended amendments.

7. Are there any operating and maintenance requirements in parts 192 (subparts L through M), 193 (subparts F through G), and 195 (subpart F) of the PSR that impose an undue burden on affected stakeholders? Please identify any specific regulatory amendments that PHMSA should consider, as well as the technical, safety, and economic reasons (include a description and number of the affected pipeline facilities) supporting those recommended amendments.

8. Are there any personnel qualification and training requirements in parts 192 (subpart N), 193 (subpart H), and 195 (subpart G) of the PSR that impose undue burdens on affected stakeholders? Please identify any specific regulatory amendments that PHMSA should consider, as well as the technical, safety, and economic reasons (include a description and number of the affected pipeline facilities) supporting those recommended amendments.

9. Do any of the integrity management requirements in part 192 (subparts O and P) or 195 (§§ 195.450 through 452) impose an undue burden on affected stakeholders? Please identify any specific regulatory amendments that PHMSA should consider, as well as the technical, safety, and economic reasons (include a description and number of the affected pipeline facilities) supporting those recommended amendments.

10. Do any of the siting requirements for LNG facilities in 49 CFR part 193, subpart B, impose an undue burden on affected stakeholders? Please identify any specific regulatory amendments that PHMSA should consider, as well as the technical, safety, and economic reasons (include a description and number of the affected pipeline facilities) supporting those recommended amendments.

11. Do any of the drug and alcohol testing requirements in part 199 (which incorporates by reference Departmental requirements at 49 CFR part 40) impose an undue burden on affected stakeholders? Please identify any specific regulatory amendments that PHMSA should consider, as well as the technical, safety, and economic reasons (include a description and number of the affected pipeline facilities) supporting those recommended amendments.

Issued in Washington, DC, on May 29, 2025, under the authority delegated in 49 CFR 1.97.
Benjamin D. Kochman,
Acting Administrator.

[FR Doc. 2025-10090 Filed 6-3-25; 8:45 am]

BILLING CODE 4910-60-P